DEPARTMENT OF EDUCATION

Applications for New Awards; Indian Education Discretionary Grants Programs; Professional Development Program—Native American Teacher Retention Initiative

AGENCY: Office of Elementary and Secondary Education, Department of Education.

ACTION: Notice.

SUMMARY: The Department of Education (Department) is issuing a notice inviting applications for new awards for fiscal year (FY) 2025 for Indian Education Discretionary Grants Programs; Professional Development Program (PD)—Native American Teacher Retention Initiative (NATRI).

DATES:

Applications Available: January 17, 2025.

Deadline for Notice of Intent to Apply: February 18, 2025.

Date of Pre-Application Webinar: February 11, 2025.

Deadline for Transmittal of Applications: April 28, 2025.

Deadline for Intergovernmental Review: June 26, 2025.

ADDRESSES: For the addresses for obtaining and submitting an application, please refer to our Common Instructions for Applicants to Department of Education Discretionary Grant Programs, published in the Federal Register on December 23, 2024 (89 FR 104528) and available at https://www.federalregister.gov/documents/2024/12/23/2024-30488/common-instructions-for-applicants-to-department-of-education-discretionary-grant-programs.

FOR FURTHER INFORMATION CONTACT: Linda Brake, U.S. Department of Education, 400 Maryland Avenue SW, Room 3W239, Washington, DC 20202. Telephone: (202) 987-0796. Email: linda.brake@ed.gov.

If you are deaf, hard of hearing, or have a speech disability and wish to access telecommunications relay services, please dial 7-1-1.

SUPPLEMENTARY INFORMATION:

Full Text of Announcement

I. Funding Opportunity Description

Purpose of Program: The purposes of the PD Program that are relevant to this competition are to improve the skills of qualified Indian individuals who serve in the education field; and develop and implement initiatives to promote retention of effective teachers, principals, and school leaders who have a record of success in helping low-achieving Indian students improve their academic achievement, outcomes, and preparation for postsecondary education or employment.

Assistance Listing Number: 84.299B.

OMB Control Number: 1810-0580.

Background: To be successful, every student should have access to outstanding, well-prepared, well-supported educators who reflect the diversity of the students they serve. PD—NATRI provides critical support to retain qualified Indian educators and administrators serving Indian students who can help meet the unique linguistic and cultural needs of Native American students. It is the policy of the United States to fulfill the Federal Government's unique and continuing trust relationship with, and responsibility to, the Indian people for the education of Indian children. The Federal Government will continue to work with local educational agencies, Indian Tribes and organizations, postsecondary institutions, and other entities toward the goal of ensuring that programs that serve Indian children are of the highest quality and provide for basic educational needs. The Department is committed to supporting opportunities for educator retention in ways that create a diverse and well-prepared educator workforce. PD—NATRI can help advance participants' skills and opportunities. We encourage applicants to consider creative ways to overcome barriers and fully meet the needs of Native American educators and administrators to support retention efforts.

One critical means of improving educational opportunities and achievement of Indian children and youth is addressing the need for Native American educators in schools that serve Native American children and youth. Ninety-three percent of all Native American students attend public schools, where they make up 1 percent of the total student population.¹ Yet only 0.5 percent of public-school educators identify as American Indian/Alaska Native.²

¹ National Center for Education Statistics (NCES), Common Core of Data, Public Elementary/Secondary School Universe Survey, 2020-21 v.1a.

² NCES, National Teacher and Principal Survey, 2017-2018, https://nces.ed.gov/surveys/ntps/tables/ntps1718_200724_t1n.asp

In many schools there is “little to no exposure to Indigenous educators and funds of knowledge” and Native American students “are burdened with various obstacles such as low teacher expectations, inappropriate tracking into special education, and unfair disciplinary practices.” ³ Yet, cultural acknowledgement and teaching has been linked with improved outcomes for Native American students. “[A]cademic performance is associated with educational experiences structured around local knowledge, culture, and language.” ⁴

³ Anthony-Stevens, V., Mahfouz, J., & Bisbee, Y. (2020). Indigenous Teacher Education Is Nation Building: Reflections of Capacity Building and Capacity Strengthening in Idaho. Journal of School Leadership, 30(6), 541-564.

⁴ Beaulieu, D., Figueira, A.M., Viri, D. (2005). Indigenous Teacher Education: Research-Based Model. Australian Association for Research in Education.

Research underscores that teacher quality matters more than any other school-related factor and that educators play an important role in educating students about Native American knowledge, culture, and language.⁵ When Native American and Alaska Native students in the fourth and eighth grade were asked who taught them most of what they know about Native American history, language, and traditions, they ranked educators second only to their families.⁶ Yet 60 percent of those students had educators who reported never attending professional development programs aimed at developing culturally specific instructional practices for American Indian/Alaska Native students over the past two years.⁷ Because educators play a unique role in educating Native American students about their history, language, and traditions, which can increase cultural acknowledgement and improve educational outcomes, the Department supports projects that promote the retention of experienced, effective, and well-trained educators who can incorporate Native American knowledge, culture, and language into their work.

⁵ See RAND Education, “Teachers Matter: Understanding Teachers' Impact on Student Achievement,”

http://www.rand.org/education/projects/measuring-teacher-effectiveness/teachers-matter.html (last accessed April 26, 2023).

⁶ NCES, National Indian Education Study, 2019, 13-14. https://nces.ed.gov/nationsreportcard/subject/publications/studies/pdf/2021018.pdf.

⁷ Id. at 30.

Due to the Federal Government's unique political and legal relationship with Tribes—as set forth in the Constitution of the United States, treaties, Federal law, and Executive orders—the Department held a virtual Tribal consultation on January 24, 2023. This consultation was announced through various external listservs and social media. The Department requested input from Tribal Nations during Tribal Consultation where leaders supported incentives for educators to stay in schools serving Native American students, including higher salaries and other benefits that could keep educators from leaving the profession or finding better opportunities in higher-paying areas. Tribal leaders said that having more Native American educators would result in Native American students being exposed to the idea of the teaching profession as an option for them. The Department aims to promote teacher retention to help address the shortage of Native American educators and expand their impact on Native American students' education.

Applicants must propose a project that is designed to retain educators in a local educational agency (LEA) that serves a high proportion of Indian students, particularly through building teacher leadership models for educators from traditionally underrepresented backgrounds and the communities they serve. Teacher leadership allows teachers to grow professionally and earn additional compensation while remaining in the classroom, and provides the opportunity to do one or more of the following:

(1) Increase the number of qualified Indian educators and administrators serving Indian students;

(2) Provide training and support to qualified Indian individuals to enable such individuals to remain effective educators, principals, other school leaders, administrators, paraprofessionals, counselors, social workers, and specialized instructional support personnel;

(3) Improve the skills of qualified Indian individuals who serve in the capacities described in paragraph (2); and

(4) Develop and implement initiatives to promote retention of effective educators, principals, and school leaders who have a record of success in helping low-achieving Indian students improve their academic achievement, outcomes, and preparation for postsecondary education or employment.

Priorities: This competition includes one absolute priority and three competitive preference priorities. In accordance with 34 CFR 75.105(b)(2)(ii), these priorities are from regulations (34 CFR 263.6(a), (b)(5)(i) and (ii), and (b)(6), as amended pursuant to the notice of final regulations for this program published elsewhere in this issue of the Federal Register (Final Rule)).

Absolute Priority: For FY 2025 and any subsequent year in which we make awards from the list of unfunded applications from this competition, this priority is an absolute priority. Under 34 CFR 75.105(c)(3), we consider only applications that meet this priority.

This priority is:

Indian Educator Retention

To meet this priority, applicants must propose projects that—

(a) Propose an educator retention initiative to help address the shortage of fully certified Indian educators to help ensure that Indian students gain knowledge and understanding of Native communities, languages, histories, traditions, and cultures, and expand their impact on Indian students' education; or

(b) Support compensated educator leadership models designed to increase the retention of effective, experienced Indian educators who take on additional leadership and peer support responsibilities such that Indian teachers have the opportunity to advance in their careers and earn additional compensation.

Competitive Preference Priorities: For FY 2025 and any subsequent year in which we make awards from the list of unfunded applications from this competition, these priorities are competitive preference priorities. Under 34 CFR 75.105(c)(2)(i) we award an additional 5 points to an application that meets Competitive Preference Priority 1 or an additional 3 points to an application that meets Competitive Preference Priority 2 or 3. Applicants are eligible for points under Competitive Preference Priority 1, 2, or 3, but may not receive points under more than one of these competitive preference priorities; thus, the maximum number of points is 5.

These priorities are:

Competitive Preference Priority 1: Tribal Applicants (Zero or five points).

An application submitted by an Indian Tribe, Indian organization, or Tribal college or university (TCU) that is eligible to participate in the Professional Development program. A consortium application of eligible entities that meets the requirements of 34 CFR 75.127 through 75.129 and includes an Indian Tribe, Indian organization, or TCU will be considered eligible to receive preference under this priority only if the lead applicant for the consortium is the Indian Tribe, Indian organization, or TCU. To be considered a consortium application, the application must include the consortium agreement, signed by all parties.

Competitive Preference Priority 2: Consortium Applicants, Non-Tribal Lead (Zero or three points).

(1) A consortium application of eligible entities that—

(a) Meets the requirements of 34 CFR 75.127 through 75.129 and includes an Indian Tribe, Indian organization, or TCU; and

(b) Is not eligible to receive a preference under Competitive Preference Priority 1.

Competitive Preference Priority 3: State Educational Agency or LEA or Bureau of Indian Education School Lead Applicants (Zero or three points).

An application submitted by one or more of the below types of applicants in consortia with institutions of higher education (IHEs), which could include a Tribal college or university:

(i) State educational agency.

(ii) Local educational agency.

(iii) Bureau of Indian Education school.

Application Requirements: For FY 2025 and any subsequent year in which we make awards from the list of unfunded applications from this competition, applicants must meet the following application requirements from 34 CFR 263.5, as amended by the Final Rule.

Each applicant must—

(a) Describe how it will—

(1) Recruit qualified Indian individuals, such as students who may not be of traditional college age, to become teachers, principals, or school leaders, if applicable;

(2) Use funds made available under the grant to support the recruitment, preparation, retention, and professional development of Indian teachers or principals in LEAs that serve a high proportion of Indian students, as applicable; and

(3) Assist participants who receive pre-service training in meeting the payback requirements under 34 CFR 263.9(b), if applicable;

(b) If applying as an Indian organization, demonstrate that the entity meets the definition of “Indian organization”;

(c) If it is an affected LEA that is subject to the requirements of section 8538 of the Elementary and Secondary Education Act of 1965, as amended (ESEA), consult with appropriate officials from Tribe(s) or Tribal organizations approved by the Tribes located in the area served by the LEA prior to its submission of an application, as required under ESEA section 8538; and

(d) Comply with any other requirements in the application package.

Note: This competition is focused on the retention of Indian educators, and the Department is conducting a separate competition focused on the recruitment, preparation, and professional development of Indian teachers or administrators. Accordingly, we expect that, of the allowable activities described in application requirements (a)(1)-(3) above, the only activities applicable to the applicant's proposed project will be the use of funds to support the retention of Indian educators in LEAs that that serve a high proportion of Indian students, which aligns with application requirement (a)(2). Therefore applicants for this program should focus on addressing application requirement (a)(2) rather than (a)(1) and (a)(3).

Statutory Hiring Preference

Awards are subject to the provisions of section 7(b) of the Indian Self-Determination and Education Assistance Act (Pub. L. 93-638). To the greatest extent feasible, a grantee must—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

For purposes of this preference, an Indian is a member of any federally recognized Indian Tribe. (25 U.S.C. 1452(b)).

Definitions: The following definitions are from 34 CFR 263.3, as amended by the Final Rule, and apply to this competition.

BIE-funded school means a Bureau of Indian Education school, a contract or grant school, or a school for which assistance is provided under the Tribally Controlled Schools Act of 1988.

Department means the U.S. Department of Education.

Educator means an individual who is one or more of—

(1) A teacher (including an early education teacher);

(2) A principal or other school leader;

(3) An administrator;

(4) Specialized instructional personnel (e.g., school psychologist, school counselor, school social worker, school nurse, librarian, early intervention service personnel);

(5) A paraprofessional; or

(6) Faculty.

Indian means an individual who is—

(1) A member of an Indian tribe or band, as membership is defined by the Indian tribe or band, including any tribe or band terminated since 1940, and any tribe or band recognized by the State in which the tribe or band resides;

(2) A descendant of a parent or grandparent who meets the requirements of paragraph (1) of this definition;

(3) Considered by the Secretary of the Interior to be an Indian for any purpose;

(4) An Eskimo, Aleut, or other Alaska Native; or

(5) A member of an organized Indian group that received a grant under the Indian Education Act of 1988 as it was in effect on October 19, 1994.

Indian organization means an organization that—

(1) Is legally established—

(i) By tribal or inter-tribal charter or in accordance with State or tribal law; and

(ii) With appropriate constitution, by-laws, or articles of incorporation;

(2) Includes in its purposes the promotion of the education of Indians;

(3) Is controlled by a governing board, the majority of which is Indian;

(4) If located on an Indian reservation, operates with the sanction or by charter of the governing body of that reservation;

(5) Is neither an organization or subdivision of, nor under the direct control of, any institution of higher education or TCU; and

(6) Is not an agency of State or local government.

Institution of higher education (IHE) has the meaning given that term in section 101(a) of the Higher Education Act of 1965 (20 U.S.C. 1001(a)).

Local educational agency (LEA) that serves a high proportion of Indian students means—

(1) An LEA, including a BIE-funded school, that serves a high proportion of Indian students in the LEA as compared to other LEAs in the State; or

(2) An LEA, including a BIE-funded school, that serves a high proportion of Indian students in the school in which the participant works compared to other LEAs in the State, even if the LEA as a whole in which the participant works does not have a high proportion of Indian students compared to other LEAs in the State.

Secretary means the Secretary of the Department of Education or an official or employee of the Department acting for the Secretary under a delegation of authority.

Program Authority: 20 U.S.C. 7442.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The regulations for this program in 34 CFR part 263, as amended by the Final Rule.

Note: As of October 1, 2024, grant applicants must follow the provisions stated in the updated Uniform Guidance (89 FR 30046, April 22, 2024) when preparing an application. For more information about these regulations please visit: https://www.cfo.gov/resources-coffa/uniform-guidance/.

Note: The regulations in 34 CFR part 79 apply to all applicants except federally recognized Indian Tribes.

Note: The regulations in 34 CFR part 86 apply to IHEs only.

II. Award Information

Type of Award: Discretionary grants.

Estimated Available Funds: The Administration requested $72,000,000 for Special Programs for Indian Children, of which we intend to use an estimated $13,000,000 for this competition. The actual level of funding, if any, depends on final congressional action. However, we are inviting applications to allow enough time to complete the grant process if Congress appropriates funds for this program.

Contingent upon the availability of funds and the quality of applications, we may make additional awards in FY 2026 and subsequent years from the list of unfunded applications from this competition.

Estimated Range of Awards: $400,000-$500,000.

Estimated Average Size of Awards: $450,000.

Estimated Number of Awards: 29.

Note: The Department is not bound by any estimates in this notice.

Project Period: Up to 36 months with the potential for renewal of up to an additional 24 months.

Note: Under ESEA section 6122(g), the Secretary awards grants for an initial period of not more than 36 months and may renew them for up to 24 months if the Secretary determines that the grantee has made substantial progress in carrying out activities under the grant. The Department requests that applicants provide budget information in their applications for the full period, up to 60 months, for which they hope to be funded.

III. Eligibility Information

1. Eligible Applicants: The following entities, either alone or in a consortium, are eligible under this program:

(1) An institution of higher education, or a TCU;

(2) A State educational agency in consortium with an institution of higher education or a TCU;

(3) A local educational agency (LEA) in consortium with an institution of higher education or a TCU;

(4) An Indian tribe or Indian organization in consortium with an institution of higher education or a TCU; or

(5) A BIE-funded school in consortium with at least one TCU, where feasible.

2. a. Cost Sharing or Matching: This program does not require cost sharing or matching.

b. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see https://www.ed.gov/about/ed-offices/ofo#Indirect-Cost-Division. Note, however, that consistent with 34 CFR 75.562(c)(4), this training rate limitation does not apply to agencies of Indian Tribal governments.

c. Administrative Cost Limitation: This program does not include any program-specific limitation on administrative expenses. All administrative expenses must be reasonable and necessary and conform to Cost Principles described in 2 CFR part 200 subpart E of the Guidance for Federal Financial Assistance.

d. Subgrantees: A grantee under this competition may not award subgrants to entities to directly carry out project activities described in its application.

3. Other: Projects funded under this competition must budget for a two-day Project Directors' meeting in Washington, DC during each year of the project period. This meeting may be held virtually if conditions warrant such format.

IV. Application and Submission Information

1. Application Submission Instructions: Applicants are required to follow the Common Instructions for Applicants to Department of Education Discretionary Grant Programs, published in the Federal Register on December 23, 2024 (89 FR 104528) and available at https://www.federalregister.gov/documents/2024/12/23/2024-30488/common-instructions-for-applicants-to-department-of-education-discretionary-grant-programs, which contain requirements and information on how to submit an application.

2. Submission of Proprietary Information: Given the types of projects that may be proposed in applications for the PD Program, your application may include business information that you consider proprietary. In 34 CFR 5.11 we define “business information” and describe the process we use in determining whether any of that information is proprietary and, thus, protected from disclosure under Exemption 4 of the Freedom of Information Act (5 U.S.C. 552, as amended).

Because we plan to make successful applications available to the public by posting them on our website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative.

An application will not be disqualified if it exceeds the recommended page limit.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from CFR 75.210 and 263.7. An applicant may earn up to a total of 100 points based on the selection criteria. The maximum score for each criterion is indicated in parentheses. Each criterion also includes the factors that the reviewers will consider in determining how well an application meets the criterion. The criteria are as follows:

(a) Need for project (up to 5 points). In determining the need for the proposed project, the Secretary considers the extent to which the proposed project will provide support, resources, or services; or otherwise address the needs of the target population, including addressing the needs of underserved populations most affected by the issue, challenge, or opportunity, to be addressed by the proposed project and close gaps in educational opportunity.

(b) Quality of project design (up to 20 points). The Secretary considers the following factors in determining the quality of the design of the proposed project:

(1) The extent to which the goals, objectives, and outcomes to be achieved by the proposed project are clearly specified, measurable, and ambitious yet achievable within the project period, and aligned with the purposes of the grant program. (Up to 5 points)

(2) The extent to which the design of the proposed project demonstrates meaningful community engagement and input to ensure that the project is appropriate to successfully address the needs of the target population or other identified needs and will be used to inform continuous improvement strategies. (Up to 5 points)

(3) The extent to which the proposed project demonstrates that it is designed to build capacity and yield sustainable results that will extend beyond the project period. (Up to 5 points)

(4) The extent to which the proposed project is part of a comprehensive effort to improve teaching and learning and support rigorous academic standards and increased social, emotional, and educational development for students, including members of underserved populations. (up to 5 points)

(c) Quality of project services (up to 20 points). The Secretary considers the following factors in determining the quality of the design of project services:

(1) The likelihood that the proposed project will provide participants with learning experiences that develop needed skills for successful teaching and/or administration in LEAs that serve a high proportion of Indian students. (up to 5 points)

(2) The extent to which the services to be provided by the proposed project are likely to provide long-term solutions to alleviate the personnel shortages that have been identified or are the focus of the proposed project. (Up to 5 points)

(3) The extent to which the proposed project prepares participants to adapt teaching and/or administrative practices to meet the breadth of Indian student needs. (up to 10 points)

(d) Quality of project personnel (up to 15 points). When determining the quality of the personnel who will carry out the proposed project, the Secretary considers the qualifications, including relevant training, experience, and cultural competence, of the project director and the amount of time this individual will spend directly involved in the project.

(e) Adequacy of resources (up to 10 points). In determining the adequacy of resources for the proposed project, the Secretary considers the following factors:

(1) The relevance and demonstrated commitment of each partner in the proposed project to the implementation and success of the project. (Up to 5 points)

(2) The extent to which the budget is adequate to support the proposed project and the costs are reasonable in relation to the objectives, design, and potential significance of the proposed project. (Up to 5 points)

(f) Quality of the management plan (10 points). In determining the quality of the management plan for the proposed project, the Secretary considers the following factors:

(1) The feasibility of the management plan to achieve project objectives and goals on time and within budget, including clearly defined responsibilities, timelines, and milestones for accomplishing project tasks. (Up to 5 points)

(2) The adequacy of plans for ensuring the use of quantitative and qualitative data, including meaningful community member and partner input, to inform continuous improvement in the operation of the proposed project. (Up to 5 points).

(g) Quality of the project evaluation or other evidence-building. (up to 20 points). In determining the quality of the evaluation or other evidence-building of the proposed project, the Secretary considers the following factors:

(1) The extent to which the methods of evaluation or other evidence-building are appropriate to the context within which the project operates and the target population of the proposed project. (Up to 10 points)

(2) The extent to which the methods of evaluation or other evidence-building are designed to measure the fidelity of implementation of the project. (Up to 10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

The Department will screen applications that are submitted in accordance with the requirements in this notice, and determine which applications are eligible to be read based on whether they have met the eligibility, priorities and application requirements in this notice. The Department will use reviewers with knowledge and expertise on issues related to educator training and improving outcomes for Native American youth, as well as knowledge of teacher retention, to score the selection criteria. The Department will thoroughly screen all reviewers for conflicts of interest to ensure a fair and competitive review.

In reviewing applications, the Department will assign points for Competitive Preference Priorities 1, 2, or 3 based on each application's adherence to the requirements of each.

Technical scoring. Reviewers will read, prepare a written evaluation, and assign a technical score to the applications assigned to their panel, using the selection criteria provided in this notice. The Department will then prepare rank order(s) of applications based on their technical scores.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purpose of Department reporting under 34 CFR 75.110, the Department has established the following performance measure: The unduplicated, cumulative number of Indian educators served by the grant that remained in their role or advance in their field annually and by the end of the grant period.

This measure constitutes the Department's indicator of success for this program. Consequently, we advise an applicant for a grant under this program to carefully consider this measure in conceptualizing the approach to, and evaluation for, its proposed project. Each grantee will be required to provide, in its annual performance and final reports, data about its progress in meeting this measure.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Adam Schott,
Principal Deputy Assistant Secretary, Delegated the Authority To Perform the Functions and Duties of the Assistant Secretary, Office of Elementary and Secondary Education.

[FR Doc. 2025-01315 Filed 1-15-25; 4:15 pm]

BILLING CODE 4000-01-P